DEPARTMENT OF LABOR

Employment and Training Administration

[TA-W-62,220]

Agrium U.S., Inc., Kenai Nitrogen Operation, Including On-Site Leased Workers From NMS (Nana Management Systems) and Heat & Frost Insulation, Inc., Kenai, AK; Amended Notice of Revised Determination on Reconsideration

In accordance with Section 223 of the Trade Act of 1974 (19 U.S.C. 2273), and Section 246 of the Trade Act of 1974 (26 U.S.C. 2813), as amended, the Department of Labor issued a Notice of Revised Determination on Reconsideration on January 8, 2008. The notice was published in the Federal Register on January 16, 2008 (73 FR 2946). The Revised Determination was amended on October 22, 2008 to include on-site leased workers from NMS (Nana Management Systems). The notice was published in the Federal Register on November 3, 2008 (73 FR 65410-65411)

At the request of the petitioner, the Department reviewed the Notice of Revised Determination on Reconsideration for workers of the subject firm. The workers are engaged in the production of anhydrous ammonia and urea.

New information shows that workers leased workers from Heat & Frost Insulation, Inc. were employed on-site at the Kenai, Alaska location of Agrium U.S., Inc., Kenai Nitrogen Operation. The Department has determined that these workers were sufficiently under the control of Agrium U.S., Inc., Kenai Nitrogen Operation to be considered leased workers.

Based on these findings, the Department is amending this revised determination to include workers leased from Heat & Frost Insulation, Inc. working on-site at the Kenai, Alaska location of the subject firm.

The intent of the Department's certification is to include all workers employed at Agrium U.S., Inc., Kenai Nitrogen Operation, Kenai, Alaska who were adversely affected by a shift in production of anhydrous ammonia and urea to Damietta, Egypt.

The amended notice applicable to TA-W-62,220 is hereby issued as follows:

All workers of Agrium U.S., Inc., Kenai Nitrogen Operation, including on-site leased workers from NMS (Nana Management Systems) and Heat & Frost Insulation, Inc., Kenai, Alaska, who became totally or partially separated from employment on or after April 13, 2007, through January 8, 2010, are eligible to apply for adjustment assistance under Section 223 of the Trade Act of 1974, and are also eligible to apply for alternative trade adjustment assistance under Section 246 of the Trade Act of 1974.

Signed at Washington, DC, this 22nd day of January 2010.
Elliott S. Kushner,
Certifying Officer, Division of Trade Adjustment Assistance.

[FR Doc. 2010-8868 Filed 4-16-10; 8:45 am]

BILLING CODE 4510-FN-P